DEPARTMENT OF TRANSPORTATION

Federal Aviation Administration

14 CFR Part 39

[Docket No. FAA-2006-26134; Directorate Identifier 2006-CE-56-AD]

RIN 2120-AA64

Airworthiness Directives; EXTRA Flugzeugproduktions-und Vertriebs-GmbH Models EA-300, EA-300S, EA-300L, and EA-300/200 Airplanes

AGENCY: Federal Aviation Administration (FAA), Department of Transportation (DOT).

ACTION: Notice of proposed rulemaking (NPRM).

SUMMARY: We propose to supersede Airworthiness Directive (AD) 2002-21-11, which applies to certain EXTRA Flugzeugbau GmbH (EXTRA) Model EA-300S airplanes. AD 2002-21-11 currently requires you to inspect, using a fluorescent dye check penetrant method, the upper longeron at the horizontal stabilizer attachment for cracks, repair any cracks found, and modify the horizontal stabilizer. That AD also requires a limit on operation to the Normal category until the initial inspection and modification on airplanes with less than 200 hours time-in-service (TIS) is done. Since we issued AD 2002-21-11, cracks have been found on Models EA-300L and EA-300/200 airplanes. Consequently, this proposed AD adds airplanes to the applicability and requires you to inspect and modify the upper longeron at the horizontal stabilizer attachment. This proposed AD results from mandatory continuing airworthiness information (MCAI) issued by the airworthiness authority for Germany. We are proposing this AD to detect and correct cracks in the upper longeron at the horizontal stabilizer attachment, which could result in structural failure of the aft fuselage. This failure could lead to loss of control.

DATES: We must receive comments on this proposed AD by December 22, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact EXTRA Flugzeugproduktions-und Vertriebs-GmbH, Schwarze Heide 21, D-46569 Huenxe, Germany; fax: (+49)-2858-9137-42.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Comments Invited

We invite you to send any written relevant data, views, or arguments regarding this proposed AD. Send your comments to an address listed under the ADDRESSES section. Include the docket number, “FAA-2006-26134; Directorate Identifier 2006-CE-56-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

Fatigue cracks at the horizontal stabilizer attachment were found on EXTRA Model EA-300S airplanes. These airplanes are utilized in aerobatic maneuvers, and the stress in the area of the horizontal stabilizer can lead to cracks in this area, as well as in the upper longerons and diagonal braces.

This condition caused us to issue AD 2002-21-11, Amendment 39-12917 (67 FR 65479, October 25, 2002). AD 2002-21-11 currently requires the following on certain EXTRA Model EA-300S airplanes:

• For all affected airplanes: an inspection of the upper longeron at the horizontal stabilizer attachment for cracks using a fluorescent dye check penetrant method, repair of any cracks found, and modification of the horizontal stabilizer; and

• On airplanes with less than 200 hours time-in-service as of December 17, 2002 (the effective date of AD 2002-21-11): a limit on operation to the Normal category until the initial inspection and modification is done.

The European Aviation Safety Agency (EASA), which is the aviation authority for the European Union (EU), notified FAA of the need to supersede AD 2002-21-11 to address an unsafe condition that may exist or could develop on certain EXTRA Models EA-300, EA-300S, EA-300L, and EA-300/200 airplanes. EASA reports that while doing the inspections specified in Part I of EXTRA Service Bulletin No. 300-2-95, Issue: D, on the entire fleet of EA-300 series airplanes, cracks were found on Model EA-300L airplanes. Recent inspections revealed cracks found on Model EA-300/200 airplanes.

This condition, if not corrected, could lead to structural failure of the aft fuselage with consequent loss of control.

Relevant Service Information

We have reviewed EXTRA Service Bulletin No. 300-2-95, Issue: F, Dated: July 10, 2006.

The service information describes procedures for:

• Inspecting the upper longeron at the horizontal stabilizer attachment for cracks;

• Reinforcing the upper longeron in the area of the horizontal stabilizer attachment; and

• Installing V-tubes to reinforce fuselage frame underneath the horizontal stabilizer attachment bracket.

European Authority Aviation Information

EASA classified this service bulletin as mandatory and issued AD No.

2006-0281, dated September 14, 2006, to ensure the continued airworthiness of these airplanes in Germany.

These EXTRA Models EA-300, EA-300S, EA-300L, and EA-300/200 airplanes are manufactured in Germany and are type-certificated for operation in the United States under the provisions of section 21.29 of the Federal Aviation Regulations (14 CFR 21.29) and the applicable bilateral airworthiness agreement.

Under this bilateral airworthiness agreement, EASA has kept us informed of the situation described above.

FAA's Determination and Requirements of the Proposed AD

We are proposing this AD because we have examined EASA's findings, evaluated all information and determined the unsafe condition described previously is likely to exist or develop on other products of the same type design that are certificated for operation in the United States.

This proposed AD would supersede AD 2002-21-11 with a new AD that would incorporate the actions in the previously-referenced service information. This proposed AD would require you to use the service information described previously to perform these actions.

Differences Between the European Authority AD, the Service Bulletin, and This Proposed AD

EASA AD No. 2006-0281, dated September 14, 2006, and EXTRA Service Bulletin No. 300-2-95, Issue: F, Dated: July 10, 2006, allow 50-hour repetitive inspections of the horizontal stabilizer attachment with the option of installing the modification kits as a terminating action for the repetitive inspections for certain affected airplanes. This AD does not allow continued repetitive inspections.

The FAA has determined that long-term continued operational safety will be better assured by design changes that remove the source of the problem rather than by repetitive inspections or other special procedures.

Costs of Compliance

We estimate that this proposed AD would affect 134 airplanes in the U.S. registry.

We estimate the following costs to do the proposed inspection:

Labor cost | Parts cost | Total cost per airplane | Total cost on U.S. operators
24 work-hours × $80 per hour = $1,920 | Not applicable | $1,920 | $1,920 × 134 = $257,280

We estimate the following costs to do the proposed modifications:

Labor cost | Parts cost | Total cost per airplane | Total cost on U.S. operators
40 work-hours × $80 per hour = $3,200 | $200 | $3,200 + $200 = $3,400 | $3,400 × 134 = $455,600

For airplanes still covered under warranty, the manufacturer will provide warranty credit for up to 35 work-hours for the inspection and modification work, as stated on page 8 of EXTRA Service Bulletin No. 300-2-95, Issue: F, Dated: July 10, 2006.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2002-21-11, Amendment 39-12917 (67 FR 65479, October 25, 2002) and adding the following new AD:

EXTRA Flugzeugproduktions-und Vertriebs-GMBH: Docket No. FAA-2006-26134; Directorate Identifier 2006-CE-56-AD.

Comments Due Date

(a) We must receive comments on this airworthiness directive (AD) action by December 22, 2006.

Affected ADs

(b) This AD supersedes AD 2002-21-11, Amendment 39-12917.

Applicability

(c) This AD applies to the following airplanes that are certificated in any category:

Models | Serial numbers
EA-300 | 01 through 62.
EA-300L | 01 through 71, 73 through 77, 79 through 83, 85 through 89, 91, and 92.
EA-300S | 01 through 29.
EA-300/200 | 01 through 31 and 1032 through 1039.

Unsafe Condition

(d) This AD results from mandatory continuing airworthiness information (MCAI) issued by the airworthiness authority for Germany. We are issuing this AD to detect and correct cracks in the upper longeron at the horizontal stabilizer attachment, which could result in structural failure of the aft fuselage. This failure could lead to loss of control.

Compliance

(e) To address this problem, you must do the following, unless already done:

Actions | Compliance | Procedures
(1) Inspect, using a fluorescent dye penetrant method, the upper longeron at the horizontal stabilizer attachment for cracks, as applicable. You may take “unless already done” credit for the inspections if you previously used Extra Service Bulletin No. 300-2-95 (pages 2-6 at Issue: C, dated July 15, 1998; and pages 1 and 7 through 11 at Issue: D, dated January 30, 2001) | (i) For Models EA-300S airplanes: Upon accumulating 250 hours time-in-service (TIS) after December 17, 2002 (the effective date of AD 2002-21-11) or within the next 50 hours TIS after the effective date of this AD, whichever occurs first (ii) For Models EA-300, EA-300L, and EA-300/200 airplanes: Within the next 50 hours TIS after the effective date of this AD. (iii) For all affected airplanes: If the modifications specified in Part II and Part III of EXTRA Service Bulletin No. 300-2-95, Issue: F, Dated: July 10, 2006, have already been incorporated, no further action is required. | Follow Part I of EXTRA Service Bulletin No. 300-2-95, Issue: F, Dated: July 10, 2006.
(2) If cracks are found during the inspection required in paragraph (e)(1) of this AD in areas A, B, and C (as shown in Figure 1 of EXTRA Service Bulletin No. 300-2-95, Issue: F, Dated: July 10, 2006), weld the crack and modify the upper longeron at the horizontal stabilizer attachment by installing the applicable modification kit (or FAA-approved equivalent parts) | For all affected airplanes: Before further flight after the inspection required in paragraph (e)(1) of this AD where cracks are found, unless already done | Follow Part II of EXTRA Service Bulletin No. 300-2-95, Issue: F, Dated: July 10, 2006.
(3) If no cracks are found during the inspection required in paragraph (e)(1) of this AD, modify the upper longeron at the horizontal stabilizer attachment by installing the applicable modification kit (or FAA-approved equivalent parts) | For all affected airplanes: Within the next 100 hours TIS after the effective date of this AD, unless already done | Follow Part II of EXTRA Service Bulletin No. 300-2-95, Issue: F, Dated: July 10, 2006.
(4) For Models EA-300S and EA-300L airplanes only: Reinforce the fuselage frame underneath the horizontal stabilizer main spar attachment bracket by installing the applicable modification kit (or FAA-approved equivalent parts) | (i) For Model EA-300S: Within the next 200 hours TIS after December 17, 2002 (the effective date of AD 2002-21-11) or within the next 100 hours TIS after the effective date of this AD, whichever occurs first, unless already done (ii) For Model EA-300L: Within the next 100 hours TIS after the effective date of this AD, unless already done. | Follow Part III of EXTRA Service Bulletin No. 300-2-95, Issue: F, Dated: July 10, 2006.

Alternative Methods of Compliance (AMOCs)

(f) The Manager, Standards Office, Small Airplane Directorate, FAA, ATTN: Karl Schletzbaum, Aerospace Engineer, 901 Locust, Room 301, Kansas City, MO 64106; telephone: (816) 329-4146; fax: (816) 329-4090, has the authority to approve AMOCs for this AD, if requested using the procedures found in 14 CFR 39.19.

(g) AMOCs approved for AD 2002-21-11 are [PK1]approved for this AD.

Related Information

(h) The European Aviation Safety Agency (EASA) AD No. 2006-0281, dated September 14, 2006, also addresses the subject of this AD. To get copies of the service information referenced in this AD, contact EXTRA Flugzeugproduktions-und Vertriebs-GmbH, Schwarze Heide 21, D-46569 Huenxe, Germany; fax: (+49)-2858-9137-42. To view the AD docket, go to the Docket Management Facility; U.S. Department of Transportation, 400 Seventh Street, SW., Nassif Building, Room PL-401, Washington, DC, or on the Internet at http://dms.dot.gov. The docket number is Docket No. FAA-2006-26134; Directorate Identifier 2006-CE-56-AD.

Issued in Kansas City, Missouri, on November 15, 2006.
Steve Thompson,
Acting Manager, Small Airplane Directorate, Aircraft Certification Service.

[FR Doc. E6-19762 Filed 11-21-06; 8:45 am]

BILLING CODE 4910-13-P